DEPARTMENT OF LABOR

Agency Information Collection Activities; Submission for OMB Review; Comment Request; Employment Information Form

ACTION: Notice of availability; request for comments.

SUMMARY: The Department of Labor (DOL) is submitting this Wage and Hour Division (WHD)-sponsored information collection request (ICR) to the Office of Management and Budget (OMB) for review and approval in accordance with the Paperwork Reduction Act of 1995 (PRA). Public comments on the ICR are invited.

DATES: The OMB will consider all written comments that the agency receives on or before December 2, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nora Hernandez by telephone at 202-693-8633, or by email at DOL_PRA_PUBLIC@dol.gov.

SUPPLEMENTARY INFORMATION: The Department of Labor's (Department) Wage and Hour Division (WHD) is authorized to administer and enforce a variety of laws that establish the minimum standards for wages and working conditions in the United States. Collectively, these labor standards cover most private, State, and local government employment. These labor laws range from some of the earliest labor protections passed by Congress to some of the most recent. Although they differ in scope, all of the statutes enforced by WHD are intended to protect and to promote the welfare of the nation's workforce; to provide opportunities for advancement; to ensure fair compensation for work performed; and to level the playing field for responsible employers. The Fair Labor Standards Act (FLSA) minimum wage provisions and the government contract prevailing wage laws provide a floor for the payment of fair wages, while the FLSA overtime provisions are intended to broaden work opportunities and promote employment. The Migrant and Seasonal Agricultural Worker Protection Act (MSPA) and the immigration programs establish working conditions intended to protect the wages and the safety and health of vulnerable workers; to ensure that the local labor force is not displaced by lower paid foreign or migrant labor; and ensure employers that obey the law are not disadvantaged. The McNamara-O'Hara Service Contract Act (SCA) requires contractors and subcontractors performing services on prime contracts in excess of $2,500 to pay service employees in various classes no less than the wage rates and fringe benefits found prevailing in the locality, or the rates (including prospective increases) contained in a predecessor contractor's collective bargaining agreement. The Davis-Bacon and Related Acts (DBRA) require payment of prevailing wages on federal funded or assisted construction projects. The Family and Medical Leave Act (FMLA) was enacted to help workers balance family and work responsibilities and help keep middle class families in the middle class by providing job protection, and the child labor provisions of the FLSA ensure the safe employment of young workers; encourage their educational endeavors; and provide a path to future employment. The Department also administers portions of the Consumer Credit Protection Act, various Executive orders (E.O.) such as E.O. 13658, E.O. 14026, and E.O. 14055.

In fiscal year 2023, WHD concluded 955 investigations that found child labor violations, a 14% increase from the previous year. WHD found nearly 5,800 children employed in violation of the law, an 88% increase since 2019, and assessed more than $8 million in penalties, an 83% increase from the previous year. At WHD, safeguarding children at work has always been our top priority. WHD investigations found a significant increase in children being employed illegally and in 2023 launched a National Strategic Enforcement Initiative on Child Labor to put additional emphasis on addressing this critical issue. As part of this initiative, the Department has designed a WHD contact form to better respond to potential child labor issues and potential complaints. This revision proposes to implement the contact form to better streamline Department responsiveness to child labor issues. For additional substantive information about this ICR, see the related notice published in the Federal Register on June 27, 2024 (89 FR 53656).

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology. To help ensure appropriate consideration, comments should reference OMB Control Number 1235-0021.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review. The Department of Labor seeks an approval for the revision of this information collection to ensure effective administration of the laws administered by the WHD.

Agency: DOL-WHD.

Title of Collection: Employment Information Form.

OMB Control Number: 1235-0021.

Affected Public: Businesses or other for-profits, Farms.

Total Estimated Number of Respondents: 133,803.

Total Estimated Number of Responses: 133,803.

Total Estimated Annual Time Burden: 26,802 hours.

Total Estimated Annual Other Costs Burden: $0.

(Authority: 44 U.S.C. 3507(a)(1)(D))

Nora Hernandez,
PRA Department Clearance Officer.

[FR Doc. 2024-25504 Filed 10-31-24; 8:45 am]

BILLING CODE 4510-27-P